DEPARTMENT OF AGRICULTURE

Submission for OMB Review; Comment Request

March 18, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 22, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Importation of Live Swine, Pork, and Pork Products, and Swine Semen from the European Union.

OMB Control Number: 0579-0218.

Summary of Collection: The Animal Health Protection Act (AHPA) of 2002 is the primary Federal law governing the protection of animal health. The Law gives the Secretary of Agriculture broad authority to detect, control, or eradicate pests or diseases of livestock or poultry. The Animal Plant and Health Inspection Service (APHIS) regulate the importation of animals and animal products into the United States to guard against the introduction of animal diseases not currently present or prevalent in the country.

Need and Use of the Information: APHIS will collect information using VS form 17-129, Application for Import or in Transit Permit, concerning the origin and history of the items destined for importation into the United States. APHIS will also collect information to ensure that swine, pork and pork products, and swine semen pose a negligible risk of introducing exotic swine diseases into the United States. If the information is not collected it would cripple APHIS ability to ensure that swine, pork and pork products, and swine semen poses a minimal risk of introducing classical swine fever and other exotic animal disease into the United States.

Description of Respondents: Federal Government.

Number of Respondents: 16.

Frequency of Responses: Reporting: On occasion.

Total Burden Hours: 7,504.

Ruth Brown,
Departmental Information Collection Clearance Officer.

[FR Doc. 2013-06555 Filed 3-21-13; 8:45 am]

BILLING CODE 3410-34-P